ENVIRONMENTAL PROTECTION AGENCY

[FRL-7029-8]

Notice of Availability: Final Guidance: Coordinating CSO Long-Term Planning With Water Quality Standards Reviews

AGENCY: Environmental Protection Agency (EPA).

ACTION: Availability of final guidance.

SUMMARY: This notice announces that the U.S. Environmental Protection Agency (EPA) is publishing the final Guidance: Coordinating CSO Long-Term Planning with Water Quality Standards Reviews. The guidance addresses questions raised since the publication of the CSO Control Policy in 1994 on coordinating the long-term control plan (LTCP) development process with the water quality standards review. As outlined in the guidance, EPA will continue to implement the CSO Control Policy through its existing statutory and regulatory authorities. The guidance cannot impose legally binding requirements on EPA, States, Tribes, or the regulated community. It cannot substitute for Clean Water Act (CWA) requirements, EPA's regulations, or the obligations imposed by consent decrees or enforcement orders.

ADDRESSES: Interested persons may obtain a copy of the guidance from the EPA's NPDES website at www.epa.gov/npdes or by contacting the Office of Water Resources Center at 202-260-7786 (e-mail: center.water-resource@epa.gov) or at U.S. Environmental Protection Agency, RC-4100, 1200 Pennsylvania Avenue, NW., Washington, DC 20460. Please request Guidance: Coordinating CSO Long-Term Planning with Water Quality Standards Reviews (EPA Number EPA-833-R-01-002; July 2001).

FOR FURTHER INFORMATION CONTACT: Timothy Dwyer, U.S. Environmental Protection Agency, ICC Building (MC 4203M), 1200 Pennsylvania Avenue, NW., Washington, DC, 20460. E-mail address: dwyer.tim@epa.gov. Telephone: 202-564-0717.

SUPPLEMENTARY INFORMATION: EPA issued the Combined Sewer Overflow (CSO) Control Policy in April 1994 (59 FR 18688). To date, EPA has released seven guidance documents and worked with stakeholders to foster implementation of the Policy. The CSO Control Policy calls for the development of a long-term control plan (LTCP), which includes measures that provide for compliance with the Clean Water Act including attainment of water quality standards. The CSO Control Policy provides that the LTCP should be coordinated with the review and revision, as appropriate, of water quality standards and implementation procedures on CSO-impacted receiving waters. This process is intended to ensure that the long-term controls will be sufficient to meet water quality standards (59 FR 18694).

As part of EPA's FY 1999 Appropriation, Congress directed EPA to develop guidance on the conduct of water quality standards and designated use reviews for CSO-receiving waters, and urged EPA to provide technical and financial assistance to States and EPA Regions to conduct these reviews. Further, in December 2000, amendments to the Clean Water Act at section 402(q) required EPA to issue final guidance on this subject by July 31, 2001.

The objective of this guidance is to lay a strong foundation for coordinating CSO long-term control planning with water quality standards reviews. Reaching early agreement among interested parties on the data to be collected and the analyses to be conducted to support the long-term control plan development and water quality standards reviews can facilitate the review of water quality standards and the reconciliation of water quality standards with a well-designed and operated CSO control program.

The guidance describes the process for coordinating LTCP development and implementation with the water quality standards review. This process is the centerpiece of EPA's commitment to assure that both communities with combined sewer systems and States participate in implementing the water quality-based provisions in the CSO Control Policy. The CSO Control Policy anticipates the “review and revision, as appropriate, of water quality standards and their implementation procedures when developing CSO control plans to reflect site-specific impacts of CSOs.” Although this coordination is an intensive iterative process, it provides greater assurance that CSO communities will implement CSO control programs to help attain appropriate water quality standards.

This guidance was published as a draft in January 2001 and titled, Draft Guidance on Implementing the Water Quality-Based Provisions in the Combined Sewer Overflow Control Policy (66 FR 364; January 3, 2001). EPA received comments from 27 interested parties. EPA reviewed the comments and made appropriate changes to the draft guidance in response to the submitted comments.

Dated: August 3, 2001.
Diane Regas,
Acting Assistant Administrator for Water.

[FR Doc. 01-20126 Filed 8-9-01; 8:45 am]

BILLING CODE 6560-50-P